ENVIRONMENTAL PROTECTION AGENCY

40 CFR Part 52

[EPA-R09-OAR-2017-0564; FRL-9970-87-Region 9]

Approval of California Air Plan Revisions, Mojave Desert Air Quality Management District

AGENCY: Environmental Protection Agency (EPA).

ACTION: Proposed rule.

SUMMARY: The Environmental Protection Agency (EPA) is proposing to approve and conditionally approve revisions to the Mojave Desert Air Quality Management District (MDAQMD or “District”) portion of the California State Implementation Plan (SIP). These revisions concern the District's demonstration regarding Reasonably Available Control Technology (RACT) requirements for the 1997 8-hour ozone and the 2008 8-hour ozone National Ambient Air Quality Standards (NAAQS or “standard”) in the portion of the Western Mojave Desert ozone nonattainment area under the jurisdiction of the MDAQMD. The EPA is also proposing to approve MDAQMD negative declarations into the SIP for the 2008 ozone standards. We are proposing action on local SIP revisions under the Clean Air Act (CAA or Act). We are taking comments on this proposal and plan to follow with a final action.

DATES: Any comments must arrive by December 18, 2017.

ADDRESSES: Submit your comments, identified by Docket ID No. EPA-R09-OAR-2017-0564 at https://www.regulations.gov/, or via email to Nancy Levin, Rulemaking Office at levin.nancy@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the Web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Nancy Levin, EPA Region IX, (415) 942-3848, levin.nancy@epa.gov.

SUPPLEMENTARY INFORMATION: Throughout this document, “we,” “us” and “our” refer to the EPA.

Table of Contents

I. The State's Submittal

A. What documents did the State submit?

B. Are there other versions of these documents?

C. What is the purpose of the submitted documents?

II. The EPA's Evaluation and Proposed Action

A. How is the EPA evaluating the submitted documents?

B. Do the documents meet the evaluation criteria?

C. EPA Recommendations To Further Improve the RACT SIPs

D. Public Comment and Proposed Action

III. Statutory and Executive Order Reviews

I. The State's Submittal

A. What documents did the State submit?

Table 1 lists the documents addressed by this proposal with the dates that they were adopted by the local air agency and submitted to the EPA by the California Air Resources Board (CARB).

Table 1—Submitted Documents
Local agency | Document | Adopted | Submitted
MDAQMD | MDAQMD 8-Hour Reasonably Available Control Technology—State Implementation Plan Analysis (RACT SIP Analysis) “2006 RACT SIP” | 9/25/06 | 7/11/2007
MDAQMD | MDAQMD 2015 8-Hour Reasonably Available Control Technology —State Implementation Plan Analysis (2015 RACT SIP Analysis) “2015 RACT SIP” | 2/23/15 | 9/9/2015
MDAQMD | MDAQMD Federal Negative Declarations for Nineteen Control Techniques Guidelines Source Categories “Negative Declarations for 19 CTGs” | 2/23/15 | 9/9/2015

In addition to these SIP submittals, the District and CARB transmitted commitment letters to the EPA to adopt and submit specific enforceable measures within a year of our anticipated approval date that would remedy the deficiencies identified in the 2017 MDAQMD and CARB letters to the EPA.¹

¹ Letters from Brad Poiriez, Mojave Desert Air Quality Management District (MDAQMD) to Alexis Strauss, U.S. Environmental Protection Agency (EPA) and Richard Corey, California Air Resources Board (CARB), dated September 25, 2017 and September 27, 2017. Letter from Jon Taylor, CARB, to Alexis Strauss, EPA, dated October 3, 2017.

On January 11, 2008, the submittal for MDAQMD's RACT SIP for the 1997 8-hour ozone NAAQS (2006 RACT SIP) was deemed by operation of law to meet the completeness criteria in Title 40 of the Code of Federal Regulations (CFR) part 51 Appendix V, which must be met before formal EPA review. On March 9, 2016, the submittal for the MDAQMD's 2015 RACT SIP, including negative declarations for 19 CTGs, was found to meet the completeness criteria.

B. Are there other versions of these documents?

There are no previous versions of these documents in the MDAQMD portion of the California SIP for the 1997 or 2008 8-hour ozone standards.

C. What is the purpose of the submitted documents?

Volatile Organic Compounds (VOCs) and nitrogen oxides (NOX) help produce ground-level ozone and smog, which harm human health and the environment. Section 110(a) of the CAA requires states to submit regulations that control VOCs and NOX emissions. Sections 182(b)(2) and (f) require that SIPs for ozone nonattainment areas classified as Moderate or above implement RACT for any source covered by a Control Techniques Guidelines (CTG) document and for any major source of VOCs or NOX. The MDAQMD is subject to this requirement as it regulates the San Bernardino portion of the Western Mojave Desert ozone nonattainment area that was previously designated and classified as a Moderate nonattainment area for the 1997 NAAQS and is currently classified as a Severe-15 ozone nonattainment area for the 1997 and the 2008 8-hour ozone NAAQS.² Therefore, the MDAQMD must, at a minimum, adopt RACT-level controls for all sources covered by a CTG document and for all major non-CTG sources of VOCs or NOX within the nonattainment area. Any stationary source that emits or has the potential to emit at least 100 tons per year of VOCs or NOX is a major stationary source in a Moderate ozone nonattainment area (CAA section 182(b)(2), (f) and 302(j)), and any stationary source that emits or has the potential to emit at least 25 tons per year of VOCs or NOX is a major stationary source in a Severe ozone nonattainment area (CAA sections 182(d) and (f)).

² 40 CFR 81.305; 69 FR 23858 at 23884 (April 30, 2004) (final rule designating and classifying Western Mojave Desert as a Subpart 2/Moderate nonattainment for the 1997 8-hour ozone NAAQS); 77 FR 26950 (May 8, 2012) (final rule reclassifying Western Mojave Desert as Severe-15 nonattainment for the 1997 8-hour ozone NAAQS); and 77 FR 30088 at 30100 (May 21, 2012) (final rule designating and classifying Western Mojave Desert as Severe-15 nonattainment for the 2008 8-hour ozone NAAQS). Western Mojave Desert is listed in the final rulemaking under “Los Angeles-San Bernardino Cos (W Mojave Desert), CA: Los Angeles County (part).” The EPA evaluated MDAQMD's 2006 RACT SIP submittal as a Moderate ozone nonattainment area since the District adopted its 2006 certification based on that classification. On March 13, 2014, the MDAQMD provided additional information to supplement its 2006 RACT SIP, to address the EPA's September 11, 2006 comments on the 2006 RACT SIP.

Section IV.G of the preamble to the EPA's final rule to implement the 1997 8-hour ozone NAAQS (70 FR 71612, November 29, 2005) discusses RACT requirements. It states in part that where a RACT SIP is required, states implementing the 8-hour standard generally must assure that RACT is implemented, either through a certification that previously required RACT controls still represent RACT for 8-hour implementation purposes or through a new RACT determination. Section III.D of the preamble to the EPA's final rule to implement the 2008 ozone NAAQS (80 FR 12264, March 6, 2015) discusses similar requirements for RACT. The submitted documents provide MDAQMD's analyses of its compliance with the CAA section 182 RACT requirements for the 1997 and 2008 8-hour ozone NAAQS. The EPA's technical support documents (TSDs) ³ have more information about the District's submissions and the EPA's evaluations thereof.

³ The docket for this proposed action contains two TSDs, one addressing the 2006 RACT SIP, and one addressing the 2015 RACT SIP and Negative Declarations for 19 CTGs.

II. The EPA's Evaluation and Proposed Action

A. How is the EPA evaluating the submitted documents?

SIP rules must require RACT for each category of sources covered by a CTG document as well as each major source of VOCs or NOX in ozone nonattainment areas classified as Moderate or above (see CAA section 182(b)(2)). The MDAQMD regulates a Severe ozone nonattainment area (see 40 CFR 81.305), so the District's rules must implement RACT.

States should also submit for SIP approval negative declarations for those source categories for which they are not adopting CTG-based regulations (because they have no sources above the CTG recommended threshold) regardless of whether such negative declarations were made for an earlier SIP.⁴ To do so, the submittal should provide reasonable assurance that no sources subject to the CTG requirements currently exist or are planned for the MDAQMD.

⁴ 57 FR 13498, 13512 (April 16, 1992). The EPA previously approved several negative declarations submitted by MDAQMD. See 76 FR 29153 (May 20, 2011).

The District's analysis must demonstrate that each major source of NOX or VOCs in the nonattainment area is covered by a RACT-level rule. In addition, for each CTG source category, the District must either demonstrate that a RACT-level rule is in place, or submit a negative declaration. Guidance and policy documents that we use to evaluate CAA section 182 RACT requirements include the following:

1. “Final Rule to Implement the 8-hour Ozone National Ambient Air Quality Standard—Phase 2”: (70 FR 71612; November 29, 2005).

2. “State Implementation Plans; General Preamble for the Implementation of Title I of the Clean Air Act Amendments of 1990,” 57 FR 13498 (April 16, 1992); 57 FR 18070 (April 28, 1992).

3. “Issues Relating to VOC Regulation Cutpoints, Deficiencies, and Deviations,” EPA, May 25, 1988 (the Bluebook, revised January 11, 1990).

4. “Guidance Document for Correcting Common VOC & Other Rule Deficiencies,” EPA Region 9, August 21, 2001 (the Little Bluebook).

5. “State Implementation Plans; Nitrogen Oxides Supplement to the General Preamble; Clean Air Act Amendments of 1990 Implementation of Title I; Proposed Rule,” (the NOX Supplement), 57 FR 55620, November 25, 1992.

6. Memorandum from William T. Harnett to Regional Air Division Directors, (May 18, 2006), “RACT Qs & As—Reasonably Available Control Technology (RACT) Questions and Answers.”

7. RACT SIPs, Letter dated March 9, 2006 from EPA Region IX (Andrew Steckel) to CARB (Kurt Karperos) describing Region IX's understanding of what constitutes a minimally acceptable RACT SIP.

8. RACT SIPs, Letter dated April 4, 2006 from EPA Region IX (Andrew Steckel) to CARB (Kurt Karperos) listing EPA's current CTGs, ACTs, and other documents which may help to establish RACT.

9. “Implementation of the 2008 National Ambient Air Quality Standards for Ozone: State Implementation Plan Requirements” (80 FR 12264; March 6, 2015).

With respect to major stationary sources, because the Western Mojave Desert ozone nonattainment area was classified as “Moderate” nonattainment for the 1997 8-hour ozone NAAQS at the time that California submitted the 2006 RACT SIP to the EPA, the EPA evaluated this submission in accordance with the 100 ton per year (tpy) threshold for “major stationary sources” of VOCs or NOX emissions in Moderate ozone nonattainment areas. (see CAA sections 182(b)(2) and (f)).

MDAQMD's 2015 RACT SIP submittal contains the District's RACT evaluation for major stationary sources in accordance with the 25 tpy threshold for major stationary sources of VOCs or NOX emissions in Severe ozone nonattainment areas. (see CAA sections 182(d) and (f)). The EPA also evaluated MDAQMD's submittals for compliance with the additional RACT requirements that became applicable following the EPA's reclassification of the Western Mojave Desert ozone nonattainment area from “Moderate” to “Severe” nonattainment for the 1997 8-hour ozone NAAQS and classification as a Severe ozone nonattainment area for the 2008 8-hour ozone NAAQS.

B. Do the documents meet the evaluation criteria?

We find that the District's submissions are largely consistent with the applicable CAA requirements. The District has identified rule deficiencies for certain rules, and in light of the District's commitment to adopt specific enforceable measures to remedy the identified rule deficiencies, the EPA will propose to conditionally approve portions of the submittals.

The SIP submittals and supplementary material demonstrate that all of the identified SIP rules implement RACT for the applicable CTG categories and for the major non-CTG stationary sources of VOCs and NOX for the 1997 and 2008 8-hour ozone NAAQS, with the exception of the following rules: Rule 461, Gasoline Transfer and Dispensing; Rule 462, Organic Liquid Loading; Rule 463, Storage of Organic Liquids; Rule 1104, Organic Solvent Degreasing; Rule 1106, Marine Coating Operations; Rule 1114, Wood Products Coating Operations; Rule 1115, Metal Parts & Product Coating Operations; Rule 1157, Boilers and Process Heaters; Rule 1160, Internal Combustion Engines; Rule 1161, and Portland Cements Kilns; Rule 1162, Polyester Resin Operations.

On February 24, 2017, CARB submitted an updated version of Rule 1106, Marine Coating Operations. The EPA has concluded that the District's revisions of this rule cure the deficiencies identified by the District in its 2015 RACT SIP Analysis. We are proposing approval of this rule in parallel with the present proposed action.

On September 25, 2017 and September 27, 2017, the District transmitted to CARB and the EPA commitments to adopt new or revised rules that will resolve the identified rule deficiencies in the remaining rules, and to transmit these rules to CARB no later than December 31, 2018. On October 3, 2017, CARB committed to submit these rules to the EPA no later than January 31, 2019.⁵ These letters commit the District to adopt specific enforceable measures to correct the rule deficiencies, commit the state to submit them to the EPA by a date certain, and are clear and enforceable. Accordingly, we believe these commitment letters are consistent with CAA requirements regarding conditional approval for the 2006 and 2015 RACT SIPs with respect to the rules cited above.⁶ See CAA section 110(k)(4).

⁵ Letters from Brad Poiriez, Mojave Desert Air Quality Management District (MDAQMD) to Alexis Strauss, U.S. Environmental Protection Agency (EPA) and Richard Corey, California Air Resources Board (CARB), dated September 25 and September 27, 2017. Letter from Jon Taylor, CARB, to Alexis Strauss, EPA, dated October 3, 2017.

⁶ We note that the District has begun acting on its commitment. MDAQMD has drafted revisions to Rules 461, 462, 463 and 1115 and is in the process of responding to EPA's comments on the preliminary draft amendments.

Where there are no existing sources covered by a particular CTG document, states may, in lieu of adopting RACT requirements for those sources, adopt negative declarations certifying that there are no such sources in the relevant nonattainment area. On September 9, 2015, CARB submitted for SIP inclusion MDAQMD's negative declarations for 19 CTG source categories. The District certified that it examined its permit files, emissions inventory and other documentation and determined that there are no sources in the CTG source categories listed in Table 2.⁷ The District adopted the negative declarations on February 23, 2015, after reasonable notice and public comment.⁸ We searched CARB's emissions inventory database and verified that there did not appear to be facilities in the MDAQMD that might be subject to the 19 CTG categories. We conclude that these negative declarations are consistent with the relevant policy and guidance regarding RACT. The TSDs for today's action have more information on our evaluation.

⁷ Mojave Desert Air Quality Management District Federal Negative Declaration (8 hr Ozone Standard) for Nineteen CTG Categories, signed by Eldon Heaston, Executive Officer, signed on January 13, 2015, and Board adopted on February 23, 2015.

⁸ See Resolution 15-03; February 23, 2015.

⁹ The District also lists “Protocol for Determining the Daily VOC Emission Rate of Automobile and Light-Duty Truck Primer-Surfacer and Topcoat Operations (EPA 453/R-08-002, 09/08),” however, this document is not a CTG.

¹⁰ The District also lists “Control Techniques for VOC Emissions from Stationary Sources: Industrial Manufacturing Processes (EPA-453/R-92-018, 12/92, NTIS PB-93-150-258),” however, this is not a CTG document.

Table 2—Negative Declarations
CTG source category | CTG reference document
Large Petroleum Dry Cleaners | EPA 450/3-82-009, 9/82 Control of VOC Emissions from Large Petroleum Dry Cleaners.
Manufacture of High-Density Polyethylene, Polypropylene, and Polystyrene Resins | EPA-450/3-83-008, 11/83 Control of Volatile Organic Compound Emissions from Manufacture of High-Density Polyethylene, Polypropylene, and Polystyrene Resins.
Manufacture of Pneumatic Rubber Tires | EPA-450/2-78-030, Control of Volatile Organic Emissions from Manufacture of Pneumatic Rubber Tires.
Surface Coating of Cans | EPA-450/2-77-008, 5/77 Control of Volatile Organic Emissions from Existing Stationary Sources—Vol. II: Surface Coating of Cans, Coils, Paper, Fabrics, Automobiles, and Light-Duty Trucks.
Surface Coating of Coils | EPA-450/2-77-008, 5/77 Control of Volatile Organic Emissions from Existing Stationary Sources—Vol. II: Surface Coating of Cans, Coils, Paper, Fabrics, Automobiles, and Light-Duty Trucks.
Surface Coating Operations at Automotive and Light Duty Truck Assembly Plants | EPA 453/R-08-006, 09/08, Control Technique Guidelines for Automobile and Light-Duty Truck Assembly Coatings.⁹ EPA-450/2-77-008, 5/77 Control of Volatile Organic Emissions from Existing Stationary Sources—Vol. II: Surface Coating of Cans, Coils, Paper, Fabrics, Automobiles, and Light-Duty Trucks.
Large Appliances, Surface Coatings | EPA-450/2-77-034, 12/77 Control of Volatile Organic Emissions from Existing Stationary Sources—Volume V: Surface Coating of Large Appliances. EPA 453/R-07-004, 09/07, Control Techniques Guidelines for Large Appliance Coatings.
Surface Coating of Magnet Wire | EPA-450/2-77-033, 12/77 Control of Volatile Organic Emissions from Existing Stationary Sources, Volume IV: Surface Coating of Insulation of Magnet Wire.
Vacuum Producing Devices or Systems | EPA-450/2-77-025, 10/77 Control of Refinery Vacuum Producing Systems, Wastewater Separators, and Process Unit Turnarounds.
Leaks from Petroleum Refinery Equipment | EPA-450/2-77-025, 10/77 Control of Refinery Vacuum Producing Systems, Wastewater Separators, and Process Unit Turnarounds.
Process Unit Turnarounds | EPA-450/2-77-025, 10/77 Control of Refinery Vacuum Producing Systems, Wastewater Separators, and Process Unit Turnarounds.
Equipment Leaks from Natural Gas/Gasoline Processing Plants | EPA-450/3-83-007,12/83 Control of Volatile Organic Compound Equipment Leaks from Natural Gas/Gasoline Processing Plants.
Manufacture of Synthesized Pharmaceutical Products | EPA-450/2-78-029, 12/78 Control of Volatile Organic Emissions from Manufacture of Synthesized Pharmaceutical Products.¹⁰
Air Oxidation Processes (SOCMI) | EPA-450/3-84-015, 12/84 Control of Volatile Organic Compound Emissions from Air Oxidation Process in Synthetic Organic Chemical Manufacturing Industry (SOCMI).
Reactor and Distillation Processes (SOCMI) | EPA-450/4-91-031, 08/93 Control of Volatile Organic Compound Emissions from Reactor Process and Distillation Operations in SOCMI.
Equipment used in Synthetic Organic Chemical Polymers and Resin Manufacturing | EPA-450/3-83-006, 03/84 Control of Volatile Organic Compound Leaks from Synthetic Organic Chemical Polymer and Resin Manufacturing Equipment.
Leaks from Petroleum Refinery Equipment | EPA-450/2-78-036, 06/78 Control of Volatile Organic Compound Leaks from Petroleum Refinery Equipment.
Metal Furniture Coating | EPA-450/2-77-032, 12/77 Control of Volatile Organic Emissions from Existing Stationary Sources—Volume III: Surface Coating of Metal Furniture. EPA 453/R-07-005, 09/07 Control Techniques Guidelines for Metal Furniture Coatings.
Flat Wood Paneling | EPA-450/2-78-032, 06/78 Control of Volatile Organic Emissions from Existing Stationary Sources—Volume VII: Factory Surface Coating of Flat Wood Paneling. EPA-453/R-06-004, 09/06 Control Techniques Guidelines for Flat Wood Paneling Coatings.

Accordingly, the District's 2006 and 2015 RACT SIP submittals satisfy the CAA section 182 RACT requirements, with the exception of the rules identified above, which the District has either already corrected, or has committed to correct.

Our 2006 and 2015 RACT SIP TSDs have more information on our evaluation.

C. EPA Recommendations To Further Improve the RACT SIPs

The 2015 RACT SIP TSD describes recommendations if additional emission reductions are needed for the next time the local agency modifies its rules.

D. Public Comment and Proposed Action

If a portion of a plan revision meets all the applicable CAA requirements, section 110(k)(3) authorizes the EPA to approve the plan revision in part. 42 U.S.C. 7410(k)(3). In addition, section 110(k)(4) authorizes the EPA to conditionally approve a plan revision based on a commitment by the state to adopt specific enforceable measures by a date certain but not later than one year after the date of the plan approval. 42 U.S.C. 7410(k)(4). In this instance, the enforceable measures that the state must submit are new or revised rules that correct the rule deficiencies identified above. On October 3, 2017, the state transmitted a commitment letter dated September 25, 2017 from the MDAQMD to adopt and transmit rules or rule revisions to the state that correct the deficiencies identified in Rule 461, Gasoline Transfer and Dispensing; Rule 462, Organic Liquid Loading; Rule 463, Storage of Organic Liquids; Rule 1104, Organic Solvent Degreasing; Rule 1114, Wood Products Coating Operations; Rule 1115, Metal Parts and Product Coating Operations; Rule 1157, Boilers and Process Heaters; Rule 1160, Internal Combustion Engines; Rule 1161, Portland Cement Kilns; and Rule 1162, Polyester Resin Operations no later than December 31, 2018. The state also transmitted a second commitment letter from MDAQMD dated September 27, 2017 to adopt and transmit revised Rule 1104, Organic Solvent Degreasing and Rule 1162, Polyester Resin Operations no later than December 31, 2018. The state's transmittal letter commits the state to submit to the EPA these rules no later than January 31, 2019.

If the MDAQMD or the state fail to comply with this commitment, this proposed conditional approval would convert to a disapproval and start an 18-month clock for sanctions under CAA section 179(a)(2) and a two-year clock for a federal implementation plan under CAA section 110(c)(1).

As authorized in section 110(k)(3) and (4) of the Act, the EPA proposes to partially conditionally approve MDAQMD's 2006 and 2015 RACT SIPs with respect to Rule 461, Gasoline Transfer and Dispensing; Rule 462, Organic Liquid Loading; Rule 463, Storage of Organic Liquids; Rule 1104, Organic Solvent Degreasing; Rule 1114, Wood Products Coating Operations; Rule 1115, Metal Parts and Product Coating Operations; Rule 1157, Boilers and Process Heaters; Rule 1160, Internal Combustion Engines; Rule 1161, Portland Cement Kilns; and Rule 1162, Polyester Resin Operations. Simultaneously, EPA proposes to partially approve the remainder of MDAQMD's 2006 and 2015 RACT SIPs, and to fully approve MDAQMD's negative declarations, submitted on September 9, 2015.

We will accept comments from the public on this proposal until December 18, 2017. If we take final action to approve the submitted documents, our final action will incorporate these documents into the SIP.

III. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 13771: Reducing Regulations and Controlling Regulatory Costs

This action is not an Executive Order 13771 regulatory action because actions such as SIP approvals are exempted under Executive Order 12866.

C. Paperwork Reduction Act (PRA)

This action does not impose an information collection burden under the PRA because this action does not impose additional requirements beyond those imposed by state law.

D. Regulatory Flexibility Act (RFA)

I certify that this action will not have a significant economic impact on a substantial number of small entities under the RFA. This action will not impose any requirements on small entities beyond those imposed by state law.

E. Unfunded Mandates Reform Act (UMRA)

This action does not contain any unfunded mandate as described in UMRA, 2 U.S.C. 1531-1538, and does not significantly or uniquely affect small governments. This action does not impose additional requirements beyond those imposed by state law. Accordingly, no additional costs to state, local, or tribal governments, or to the private sector, will result from this action.

F. Executive Order 13132: Federalism

This action does not have federalism implications. It will not have substantial direct effects on the states, on the relationship between the national government and the states, or on the distribution of power and responsibilities among the various levels of government.

G. Executive Order 13175: Coordination With Indian Tribal Governments

This action does not have tribal implications, as specified in Executive Order 13175, because the SIP is not approved to apply on any Indian reservation land or in any other area where the EPA or an Indian tribe has demonstrated that a tribe has jurisdiction, and will not impose substantial direct costs on tribal governments or preempt tribal law. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not impose additional requirements beyond those imposed by state law.

I. Executive Order 13211: Actions That Significantly Affect Energy Supply, Distribution, or Use

This action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

K. Executive Order 12898: Federal Actions To Address Environmental Justice in Minority Populations and Low-Income Population

The EPA lacks the discretionary authority to address environmental justice in this rulemaking.

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: November 6, 2017.
Alexis Strauss,
Acting Regional Administrator, Region IX.

[FR Doc. 2017-25017 Filed 11-16-17; 8:45 am]

BILLING CODE 6560-50-P